DEPARTMENT OF ENERGY

Proposed Agency Information Collection

AGENCY: U.S. Department of Energy.

ACTION: Notice and request for comments.

SUMMARY: The Department of Energy (DOE) has submitted to the Office of Management and Budget (OMB) for clearance, a proposal for collection of information under the provisions of the Paperwork Reduction Act of 1995. The proposed collection will support a retrospective Weatherization Assistance Program Evaluation for Program Years 2007 and 2008. A 60-day notice and request for comments was published in the Federal Register on June 9, 2010 (75 FR 32750-32751). No comments were received.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 29, 2010. If you anticipate difficulty in submitting comments within that period, contact the person listed below as soon as possible. Comments should be directed to:

DOE Desk Officer, Office of Information and Regulatory Affairs, Office of Management and Budget, New Executive Office Building, Room 10102, 725 17th Street, NW., Washington, DC 20503; and

Bruce Tonn, Environmental Sciences Division, Oak Ridge National Laboratory, One Bethel Valley Road, P.O. Box 2008, MS-6038, Oak Ridge, TN 37831-6038, Fax #: (865) 576-8646, tonnbe@ornl.gov.

FOR FURTHER INFORMATION CONTACT: Requests for additional information or copies of the information collection instrument and instructions should be directed to:

Bruce Tonn, Environmental Sciences Division, Oak Ridge National Laboratory, One Bethel Valley Road, P.O. Box 2008, MS-6038, Oak Ridge, TN 37831-6038, Fax #: (865) 576-8646, tonnbe@ornl.gov.

The plan for this evaluation can be found at http://weatherization.ornl.gov. The surveys and data forms that comprise this emergency information request can also be found at http://weatherization.ornl.gov.

SUPPLEMENTARY INFORMATION: This package contains: (1) OMB No.: 1910-5151; (2) Package Title: The Weatherization Assistance Program Evaluation; (3) Type of Review: Regular; (4) Purpose: This collection of information is necessary for a complete evaluation of the program that weatherized approximately 100,000 low-income homes in Program Years 2007 and 2008; (5) Information will be collected from fifty states and Washington, DC, nine hundred local weatherization agencies, approximately one thousand utilities, approximately two thousand three hundred residents, approximately one thousand weatherization staff and approximately 3,000 individuals who receive weatherization training; (6) The estimated burden is 74,051 hours; (7) There are no reporting or recordkeeping cost burdens associated with this request.

Statutory Authority: Section 6861 of title 42 of the United States Code and 10 CFR 440.25 authorize the collection of this information.

Issued in Washington, DC on September 23, 2010.
Cathy Zoi,
Assistant Secretary, Energy Efficiency and Renewable Energy.

[FR Doc. 2010-24406 Filed 9-28-10; 8:45 am]

BILLING CODE 6450-01-P